DEPARTMENT OF TRANSPORTATION

Federal Aviation Administration

RTCA Special Committee 135/EUROCAE Working Group 14: Environmental Conditions and Test Procedures for Airborne Equipment

AGENCY: Federal Aviation Administration (FAA), DOT.

ACTION: Notice of RTCA Special Committee 135/EUROCAE Working Group 14 meeting.

SUMMARY: The FAA is issuing this notice to advise the public of a meeting of RTCA Special Committee 135/EUROCAE Working Group 14: Environmental Conditions and Test Procedures for Airborne Equipment.

DATES: The meeting will be held March 9-12, 2004, starting at 9 a.m.

ADDRESS: The meeting will be held at Honeywell Business, Regional & General Avionics Facility, 5353 West Bell Road, Glendale, AZ.

FOR FURTHER INFORMATION CONTACT: (1) RTCA Secretariat, 1828 L Street, NW., Suite 805, Washington, DC 20036; telephone (202) 833-9339; fax (202) 833-9434; Web site http://www.rtca.org, (2) Michael Kroeger at Honeywell; telephone (602) 436-4554; e-mail at mike.kroeger@honeywell.com.

SUPPLEMENTARY INFORMATION: Pursuant to section 10(a)(2) of the Federal Advisory Committee Act (Pub. L. 92-463, 5 U.S.C., appendix 2), notice is hereby given for a Special Committee 135 meeting. The agenda will include:

• March 9-12:

• Opening Plenary Session (Welcome and Introductory Remarks, Recognize Federal Representative, Approve Minutes of Previous Meeting)

• Review Results of EUROCAE-14 Meeting.

• Review List of Change Proposals.

• Review All Change Proposals by Section.

• Review Change Proposals and Drafts for all other sections.

• Review Schedule for DO-160E, Environmental Conditions and Test Procedures for Airborne Equipment.

• Closing Plenary Session (Debrief of Subgroup Meetings, New/Unfinished Business, Date and Place of Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 10, 2004.
Robert Zoldos,
FAA System Engineer, RTCA Advisory Committee.

[FR Doc. 04-4194 Filed 2-24-04; 8:45 am]

BILLING CODE 4910-13-M